NUCLEAR REGULATORY COMMISSION

Advisory Committee on Reactor Safeguards

Meeting of the Subcommittee on Plant License Renewal Revised

The ACRS Subcommittee meeting on Plant License Renewal scheduled for February 24, 2000, 8:00 a.m. until 1:00 p.m. at the Madren Conference Center at Clemson University, Room III & IV, 100 Madren Center Drive, Clemson, South Carolina, has been extended to include a closed session scheduled for February 23, 2000, 2:00 p.m., in Room 1075 of the Oconee Complex, Seneca, South Carolina. This session will be closed pursuant to 5 U.S.C. 552b(c)(4) to review proprietary information pertinent to the Oconee license renewal application. Notice of this meeting was published in the Federal Register on Thursday, January 13, 2000 (64 FR 2204). All other items pertaining to this meeting remain the same as previously published.

For further information contact: Mr. Noel F. Dudley, cognizant ACRS staff engineer, (telephone: 301/415-6888) between 7:30 a.m. and 4:15 p.m. (EST).

Dated: January 21, 2000.
Howard J. Larson,
Acting Associate Director for Technical Support, ACRS/ACNW.

[FR Doc. 00-1941 Filed 1-26-00; 8:45 am]

BILLING CODE 7590-01-P